NUCLEAR REGULATORY COMMISSION

[NRC-2021-0030]

Monthly Notice: Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from December 11, 2020, to January 7, 2021. The last monthly notice was published on December 29, 2020.

DATES: Comments must be filed by February 25, 2021. A request for a hearing or petitions for leave to intervene must be filed by March 29, 2021.

ADDRESSES: You may submit comments by any of the following methods; however, the NRC encourages electronic comment submission through the Federal Rulemaking website:

• Federal Rulemaking Website: Go to https://www.regulations.gov and search for Docket ID NRC-2021-0030. Address questions about Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington DC 20555-0001, telephone: 301-415-2242, email: Paula.Blechman@nrc.gov.

SUPPLEMENTARY INFORMATION:

I. Obtaining Information and Submitting Comments

A. Obtaining Information

Please refer to Docket ID NRC-2021-0030, facility name, unit number(s), docket number(s), application date, and subject when contacting the NRC about the availability of information for this action. You may obtain publicly available information related to this action by any of the following methods:

• Federal Rulemaking Website: Go to https://www.regulations.gov and search for Docket ID NRC-2021-0030.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 between 8:00 a.m. and 4:00 p.m. (EST), Monday through Friday, except Federal holidays.

B. Submitting Comments

The NRC encourages electronic comment submission through the Federal Rulemaking website (https://www.regulation.gov). Please include Docket ID NRC-2021-0030, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example, in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d), the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket, which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table in this notice provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Dominion Energy Nuclear Connecticut, Inc.; Millstone Power Station, Unit No. 2; New London County, CT
Docket No(s) | 50-336.
Application date | October 8, 2020, as supplemented by letter dated December 8, 2020.
ADAMS Accession Nos | ML20282A594, ML20343A259.
Location in Application of NSHC | Pages 24-26 of Attachment 1.
Brief Description of Amendment(s) | The proposed amendment would revise Technical Specification (TS) 6.26, “Steam Generator (SG) Program,” and TS 6.9.1.9, “Steam Generator Tube Inspection Report,” to reflect a change to the required SG tube inspection frequency from every 72 effective full power months, or at least every third refueling outage, to every 96 effective full power months.
Proposed Determination | NSHC.
Name of Attorney for Licensee, Mailing Address | Lillian M. Cuoco, Esq., Senior Counsel, Dominion Energy, Inc., 120 Tredegar Street, RS-2, Richmond, VA 23219.
NRC Project Manager, Telephone Number | Richard Guzman, 301-415-1030.
Dominion Energy Nuclear Connecticut, Inc.; Millstone Power Station, Unit No. 3; New London County, CT
Docket No(s) | 50-423.
Application date | November 19, 2020.
ADAMS Accession No | ML20324A703.
Location in Application of NSHC | Pages 12-14 of Attachment 1.
Brief Description of Amendment(s) | The proposed amendment would increase the Millstone Unit No. 3 rated thermal power level from 3,650 megawatts thermal (MWt) to 3,709 MWt, an increase of approximately 1.6 percent. The proposed increase is based on using an installed Cameron Technology US LLC Leading Edge Flow Meter CheckPlus system as an ultrasonic flow meter located in each of the four main feedwater lines supplying the steam generators to improve plant calorimetric heat balance measurement accuracy. The changes would also make an editorial correction to Technical Specification (TS) 2.1.1.1 and revise TS 3.7.1.1 and TS Table 3.7-1 to update the maximum allowable power levels corresponding to the number of operable main steam safety valves per steam generator.
Proposed Determination | NSHC.
Name of Attorney for Licensee, Mailing Address | Lillian M. Cuoco, Esq., Senior Counsel, Dominion Energy, Inc., 120 Tredegar Street, RS-2, Richmond, VA 23219.
NRC Project Manager, Telephone Number | Richard Guzman, 301-415-1030.
DTE Electric Company; Fermi, Unit 2; Monroe County, MI
Docket No(s) | 50-341.
Application date | October 28, 2020.
ADAMS Accession No | ML20302A480.
Location in Application of NSHC | Pages 2-4 of Enclosure 1.
Brief Description of Amendment(s) | The proposed amendment would modify technical specification requirements in Section 1.3 and Section 3.0 regarding limiting condition for operation and surveillance requirement usage. These changes are consistent with the NRC-approved Technical Specifications Task Force (TSTF) Traveler TSTF-529, “Clarify Use and Application Rules.
Proposed Determination | NSHC.
Name of Attorney for Licensee, Mailing Address | Jon P. Christinidis, DTE Energy, Expert Attorney—Regulatory, 688 WCB, One Energy Plaza, Detroit, MI 48226.
NRC Project Manager, Telephone Number | Surinder Arora, 301-415-1421.
Energy Northwest; Columbia Generating Station; Benton County, WA
Docket No(s) | 50-397.
Application date | December 2, 2020.
ADAMS Accession No | ML20337A141.
Location in Application of NSHC | Pages 7-8 of Enclosure 1.
Brief Description of Amendment(s) | The proposed amendment requests adoption of NRC-approved Technical Specifications Task Force (TSTF) Traveler 439, “Eliminate Second Completion Times Limiting Time from Discovery of Failure to Meet an LCO [Limiting Condition for Operation],” Revision 2. The amendment would delete the second completion times from Technical Specifications 3.8.1 and 3.8.7 required actions.
Proposed Determination | NSHC.
Name of Attorney for Licensee, Mailing Address | Kathleen Galioto, Assistant General Counsel, Energy Northwest, MD PE13, P.O. Box 968, Richland, WA 99352.
NRC Project Manager, Telephone Number | Mahesh Chawla, 301-415-8371.
Entergy Louisiana, LLC and Entergy Operations, Inc.; River Bend Station, Unit 1; West Feliciana Parish, LA
Docket No(s) | 50-458.
Application date | November 2, 2020.
ADAMS Accession No | ML20307A647.
Location in Application of NSHC | Pages 5-6 of the Enclosure.
Brief Description of Amendment(s) | The proposed amendment would revise License Condition 2.C.(10), “Fire Protection (Section 9.5.1, SER [Safety Evaluation Report] and SSER [Supplement to Original SER] 3),” by replacing the current wording with standard wording from Generic Letter 86-10, “Implementation of Fire Protection Requirements,” and would delete Attachment 4, “Fire Protection Program Requirements,” from the River Bend Station, Unit 1 Renewed Facility Operating License.
Proposed Determination | NSHC.
Name of Attorney for Licensee, Mailing Address | Anna Vinson Jones, Senior Counsel, Entergy Services, Inc.,101 Constitution Avenue NW, Suite 200 East, Washington, DC 20001.
NRC Project Manager, Telephone Number | Perry Buckberg, 301-415-1383.
Exelon Generation Company, LLC; Braidwood Station, Units 1 and 2, Will County, IL; Byron Station, Unit Nos. 1 and 2, Ogle County, IL
Docket No(s) | 50-456, 50-457.
Application date | December 16, 2020.
ADAMS Accession No | ML20351A433.
Location in Application of NSHC | Pages 19-20 of Attachment 1.
Brief Description of Amendment(s) | The proposed amendments would revise Technical Specification (TS) 5.5.9, “Steam Generator (SG) Program,” for a one-time revision to the frequency for Unit 1 SG tube inspections to allow deferral of the TS required inspections until the next Unit 1 refueling outage. In addition, the proposed amendments would increment the amendment number for Unit 2 because the Unit 2 TS is on the same TS page as Unit 1.
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Exelon Generation Company, LLC; Clinton Power Station, Unit No. 1; DeWitt County, IL; Exelon Generation Company, LLC; Dresden Nuclear Power Station, Units 2 and 3; Grundy County, IL; Exelon Generation Company, LLC; LaSalle County Station, Units 1 and 2; LaSalle County, IL; Exelon Generation Company, LLC; Quad Cities Nuclear Power Station, Units 1 and 2; Rock Island County, IL
Docket No(s) | 50-461, 50-237, 50-249, 50-373, 50-374, 50-254, 50-265
Application date | November 18, 2020.
ADAMS Accession No | ML20324A090.
Location in Application of NSHC | Pages 6-9 of Attachment 1.
Brief Description of Amendment(s) | The proposed amendments would revise certain technical specification (TS) requirements related to the reactor pressure vessel (RPV) water inventory control (WIC) for each facility. The proposed changes are based on Technical Specifications Task Force (TSTF) Travelers TSTF-582, Revision 0, “RPV WIC Enhancements” (ADAMS Accession No. ML19240A260), and TSTF 583-T, Revision 0, “TSTF-582 Diesel Generator Variation” (ADAMS Accession No. ML20248H330). The proposed changes also include other administrative changes to the TSs.
Proposed Determination | NSHC.
Name of Attorney for Licensee, Mailing Address | Tamra Domeyer, Associate General Counsel, Exelon Generation Company, LLC, 4300 Winfield Road, Warrenville, IL 60555.
NRC Project Manager, Telephone Number | Blake Purnell, 301-415-1380.
Exelon Generation Company, LLC; Dresden Nuclear Power Station, Unit 1, Grundy County, IL; Exelon Generation Company, LLC; Dresden Nuclear Power Station, Units 2 and 3; Grundy County, IL
Docket No(s) | 50-010, 50-237, 50-249.
Application date | November 2, 2020.
ADAMS Accession No | ML20307A434.
Location in Application of NSHC | Pages 39-40 of Attachment 1.
Brief Description of Amendment(s) | The proposed amendments would revise the Site Emergency Plan for the post-shutdown and permanently defueled condition.
Proposed Determination | NSHC.
Name of Attorney for Licensee, Mailing Address | Tamra Domeyer, Associate General Counsel, Exelon Generation Company, LLC, 4300 Winfield Road, Warrenville, IL 60555.
NRC Project Manager, Telephone Number | Russell Haskell, 301-415-1129.
Exelon Generation Company, LLC; Dresden Nuclear Power Station, Unit 1, Grundy County, IL; Exelon Generation Company, LLC; Dresden Nuclear Power Station, Units 2 and 3; Grundy County, IL
Docket No(s) | 50-010, 50-237, 50-249.
Application date | September 24, 2020.
ADAMS Accession No | ML20269A404.
Location in Application of NSHC | Pages 15-18 of Attachment 1.
Brief Description of Amendment(s) | The proposed amendments would change the organization, staffing, and training requirements for a certified fuel handler and non-certified operator for the permanently defueled condition..
Proposed Determination | NSHC.
Name of Attorney for Licensee, Mailing Address | Tamra Domeyer, Associate General Counsel, Exelon Generation Company, LLC, 4300 Winfield Road, Warrenville, IL 60555.
NRC Project Manager, Telephone Number | Russell Haskell, 301-415-1129.
Exelon Generation Company, LLC; Dresden Nuclear Power Station, Units 2 and 3; Grundy County, IL
Docket No(s) | 50-237, 50-249
Application date | October 29, 2020.
ADAMS Accession No | ML20303A313.
Location in Application of NSHC | Pages 81-84 of Attachment 1.
Brief Description of Amendment(s) | The proposed amendments would revise the Renewed Facility Operating Licenses and Appendix A, Technical Specifications, to be consistent with the permanent cessation of operation and defueling of the reactors.
Proposed Determination | NSHC.
Name of Attorney for Licensee, Mailing Address | Tamra Domeyer, Associate General Counsel, Exelon Generation Company, LLC, 4300 Winfield Road, Warrenville, IL 60555.
NRC Project Manager, Telephone Number | Russell Haskell, 301-415-1129.
Exelon Generation Company, LLC; Three Mile Island Nuclear Station, Unit 1; Dauphin County, PA
Docket No(s) | 50-289.
Application date | December 16, 2020.
ADAMS Accession No | ML20351A451.
Location in Application of NSHC | Pages 42-45 of Attachment 1.
Brief Description of Amendment(s) | The amendment would revise the Three Mile Island Nuclear Station, Unit 1 license conditions and technical specifications after the plant and spent fuel pool have been permanently defueled.
Proposed Determination | NSHC.
Name of Attorney for Licensee, Mailing Address | Donald P. Ferraro, Assistant General Counsel, Exelon Generation Company, LLC, 200 Exelon Way, Suite 305, Kennett Square, PA 19348.
NRC Project Manager, Telephone Number | Ted Smith, 301-415-6721.
PSEG Nuclear LLC; Salem Nuclear Generating Station, Unit No. 1; Salem County, NJ
Docket No(s) | 50-272.
Application date | December 6, 2020.
ADAMS Accession No | ML20343A128.
Location in Application of NSHC | Pages 13-15 of Enclosure 1.
Brief Description of Amendment(s) | The proposed amendment would revise the reactor coolant system pressure-temperature limits and the pressurizer overpressure protection system limits and relocate them to a Pressure and Temperature Limits Report.
Proposed Determination | NSHC.
Name of Attorney for Licensee, Mailing Address | Steven Fleischer, PSEG Services Corporation, 80 Park Plaza, T-5, Newark, NJ 07102.
NRC Project Manager, Telephone Number | James Kim, 301-415-4125.
Union Electric Company; Callaway Plant, Unit No. 1; Callaway County, MO
Docket No(s) | 50-483.
Application date | October 30, 2020.
ADAMS Accession No | ML20304A455.
Location in Application of NSHC | Pages 27-29 of Enclosure 1.
Brief Description of Amendment(s) | The proposed amendment would modify the plant licensing basis by the addition of a license condition (i.e., License Condition 2.(C).(19)) to allow for the implementation of the provisions of 10 CFR 50.69, “Risk-Informed Categorization and Treatment of Structures, Systems and Components for Nuclear Power Reactors.”.
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.
Virginia Electric and Power Company, Dominion Nuclear Company; North Anna Power Station, Units 1 and 2; Louisa County, VA
Docket No(s) | 50-338, 50-339.
Application date | December 17, 2020.
ADAMS Accession No | ML20352A394.
Location in Application of NSHC | Pages 10-13 of Attachment 1.
Brief Description of Amendment(s) | The proposed amendments would augment Technical Specification Surveillance Requirements 3.8.4.2 and 3.4.8.5 to include verification of total battery connection resistance.
Proposed Determination | NSHC.
Name of Attorney for Licensee, Mailing Address | Lillian M. Cuoco, Esq., Senior Counsel, Dominion Energy, Inc., 120 Tredegar Street, RS-2, Richmond, VA 23219.
NRC Project Manager, Telephone Number | G. Ed Miller, 301-415-2481.
Virginia Electric and Power Company; Surry Power Station, Unit Nos. 1 and 2; Surry County, VA
Docket No(s) | 50-280, 50-281.
Application date | October 22, 2020.
ADAMS Accession No | ML20296A623.
Location in Application of NSHC | Pages 11-13 of Attachment 1.
Brief Description of Amendment(s) | The proposed amendments would permit the application of the leak-before-break methodology to the auxiliary piping systems attached to the reactor coolant system for Surry Power Station, Unit Nos. 1 and 2 to eliminate the dynamic effects of postulated pipe ruptures.
Proposed Determination | NSHC.
Name of Attorney for Licensee, Mailing Address | W. S. Blair, Senior Counsel, Dominion Resource Services, Inc., 120 Tredegar St., RS-2, Richmond, VA 23219.
NRC Project Manager, Telephone Number | Vaughn Thomas, 301-415-5897.
Virginia Electric and Power Company; Surry Power Station, Unit Nos. 1 and 2; Surry County, VA
Docket No(s) | 50-280, 50-281.
Application date | December 3, 2020.
ADAMS Accession No | ML20338A542.
Location in Application of NSHC | Pages 26-27 of the Attachment.
Brief Description of Amendment(s) | The proposed amendments would update the Alternative Source Term analysis for the Surry Power Station, Unit Nos. 1 and 2 following a loss-of-coolant accident.
Proposed Determination | NSHC.
Name of Attorney for Licensee, Mailing Address | W. S. Blair, Senior Counsel, Dominion Resource Services, Inc., 120 Tredegar St., RS-2, Richmond, VA 23219.
NRC Project Manager, Telephone Number | Vaughn Thomas, 301-415-5897.
Wolf Creek Nuclear Operating Corporation; Wolf Creek Generating Station, Unit 1; Coffey County, KS
Docket No(s) | 50-482.
Application date | November 4, 2020.
ADAMS Accession No | ML20310A201.
Location in Application of NSHC | Pages 4-5 of Attachment I.
Brief Description of Amendment(s) | The amendment would modify Wolf Creek Generating Station, Unit 1, renewed facility operating license to reflect a corporate name change for the owner licensee names for Kansas Gas and Electric Company to Evergy Kansas South, Inc., and Kansas City Power & Light Company to Evergy Metro, Inc.
Proposed Determination | NSHC.
Name of Attorney for Licensee, Mailing Address | Thomas C. Poindexter, Morgan, Lewis & Bockius LLP, 1111 Pennsylvania Avenue NW, Washington, DC 20004-2541.
NRC Project Manager, Telephone Number | Samson Lee, 301-415-3168.
Wolf Creek Nuclear Operating Corporation; Wolf Creek Generating Station, Unit 1; Coffey County, KS
Docket No(s) | 50-482.
Application date | November 10, 2020.
ADAMS Accession No | ML20315A433.
Location in Application of NSHC | Pages 7-8 of Attachment I.
Brief Description of Amendment(s) | The amendment would revise Technical Specification 3.6.3, “Containment Isolation Valves,” and Surveillance Requirement 3.6.3.1 to allow use of a blind flange.
Proposed Determination | NSHC.
Name of Attorney for Licensee, Mailing Address | Thomas C. Poindexter, Morgan, Lewis & Bockius LLP, 1111 Pennsylvania Avenue, NW, Washington, DC 20004-2541.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance
DTE Electric Company; Fermi, Unit 2; Monroe County, MI
Docket No(s) | 50-341
Amendment Date | December 22, 2020.
ADAMS Accession No | ML20294A035.
Amendment No(s) | 217.
Brief Description of Amendment(s) | The amendment revised Fermi, Unit 2 Technical Specification (TS) 3.6.4.1, “Secondary Containment,” and Surveillance Requirement (SR) 3.6.4.1.1 to address conditions during which the secondary containment pressure may not meet the SR pressure requirements. In addition, SR 3.6.4.1.3 was modified to acknowledge that secondary containment access openings may be open for entry and exit at certain times, and an administrative change was made to SR 3.6.4.1.5. The changes are similar to Technical Specifications Task Force (TSTF) Traveler TSTF-551. However, the license amendment request was submitted on a plant-specific basis rather than direct adoption of TSTF-551 due to a variation taken with respect to the fuel handling accident analysis.
Public Comments Received as to Proposed NSHC (Yes/No) | No.
Duke Energy Carolinas, LLC; Oconee Nuclear Station, Units 1, 2, and 3; Oconee County, SC
Docket No(s) | 50-269, 50-270, 50-287.
Amendment Date | December 9, 2020.
ADAMS Accession No | ML20303A024.
Amendment No(s) | 419 (Unit 1), 421 (Unit 2), and 420 (Unit 3).
Brief Description of Amendment(s) | The amendments revised Technical Specification (TS) 3.9.1, “Boron Concentration,” by adding a note to clarify the TS limiting condition for operation. These changes are consistent with the NRC-approved Technical Specifications Task Force (TSTF) traveler TSTF-272, Revision 1, “Refueling Boron Concentration Clarification.”
Public Comments Received as to Proposed NSHC (Yes/No) | No.
Duke Energy Progress, LLC; Shearon Harris Nuclear Power Plant, Unit 1; Wake and Chatham Counties, NC
Docket No(s) | 50-400.
Amendment Date | December 8, 2020.
ADAMS Accession No | ML20259A512.
Amendment No(s) | 181.
Brief Description of Amendment(s) | The amendment revised the Shearon Harris Nuclear Power Plant, Unit 1 Technical Specifications to allow a permanent extension of the Type A test interval from 10 years to 15 years, a more conservative allowable test interval extension of 9 months for Type A, Type B and Type C leakage rate tests, and an extension of the Type C test interval up to 75 months, based on acceptable performance history as defined in Nuclear Energy Institute (NEI) 94-01, Revision 3-A. The amendment also adopted 10 CFR part 50, Appendix J, “Primary Reactor Containment Leakage Testing for Water-Cooled Power Reactors,” Option B, “Performance-Based Requirements,” subject to certain NRC-approved exemptions, for the performance-based testing of Type B and C tested components and the use of American National Standards Institute/American Nuclear Society (ANSI/ANS) 56.8-2002, “Containment System Leakage Testing Requirements.”
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | December 28, 2020.
ADAMS Accession No | ML20335A023.
Amendment No(s) | 306 (Unit 1) and 196 (Unit 2).
Brief Description of Amendment(s) | The amendments removed License Conditions B and C (related to the irradiated fuel management plan funding) to recognize the cancellation of premature shutdown plans announced in 2019.
Public Comments Received as to Proposed NSHC (Yes/No) | No.
Energy Northwest; Columbia Generating Station; Benton County, WA
Docket No(s) | 50-397.
Amendment Date | December 15, 2020.
ADAMS Accession No | ML20302A026.
Amendment No(s) | 262.
Brief Description of Amendment(s) | The amendment revised the technical specifications (TSs) to adopt Technical Specifications Task Force (TSTF) Traveler TSTF-564, “Safety Limit MCPR [Minimum Critical Power Ratio],” Revision 2. Specifically, the amendment revised TS Safety Limit 2.1.1.2 and TS 5.6.3, “Core Operating Limits Report (COLR).”
Public Comments Received as to Proposed NSHC (Yes/No) | No.
Entergy Louisiana, LLC and Entergy Operations, Inc.; River Bend Station, Unit 1; West Feliciana Parish, LA
Docket No(s) | 50-458.
Amendment Date | January 6, 2021.
ADAMS Accession No | ML20339A518.
Amendment No(s) | 203.
Brief Description of Amendment(s) | The amendment revised the technical specifications related to reactor pressure vessel (RPV) water inventory control (WIC) to incorporate operating experience and to correct errors and omissions in Technical Specifications Task Force (TSTF) Traveler TSTF-542, Revision 2, “Reactor Pressure Vessel Water Inventory Control.” The changes are consistent with NRC-approved TSTF 582, “RPV WIC Enhancements.”
Public Comments Received as to Proposed NSHC (Yes/No) | No.
Exelon Generation Company, LLC; Braidwood Station, Units 1 and 2, Will County, IL; Byron Station, Unit Nos. 1 and 2, Ogle County, IL
Docket No(s) | 50-454, 50-455, 50-456, 50-457.
Amendment Date | December 28, 2020.
ADAMS Accession No | ML20317A001.
Amendment No(s) | Braidwood 219 (Unit 1) and 219 (Unit 2); Bryon 223 (Unit 1) and 223 (Unit 2).
Brief Description of Amendment(s) | The amendments revised Technical Specification 5.6.5, “Core Operating Limits Report (COLR),” to replace the NRC-approved loss-of-coolant accident (LOCA) methodologies with a single, newer NRC-approved LOCA methodology, the FULL SPECTRUM™ LOCA Evaluation Model.
Public Comments Received as to Proposed NSHC (Yes/No) | No.
Indiana Michigan Power Company; Donald C. Cook Nuclear Plant, Units 1 and 2; Berrien County, MI
Docket No(s) | 50-315, 50-316.
Amendment Date | December 30, 2020.
ADAMS Accession No | ML20315A483.
Amendment No(s) | 354 (Unit 1) and 334 (Unit 2).
Brief Description of Amendment(s) | The amendments revised Conditions, Required Actions, and Completion Times in the technical specifications (TSs) for the Condition where one steam supply to the turbine-driven auxiliary feedwater (AFW) pump is inoperable concurrent with an inoperable motor-driven AFW train. In addition, the amendments revised the TSs that establish specific Actions: (1) For when two motor-driven AFW trains are inoperable at the same time and; (2) for when the turbine-driven AFW train is inoperable either (a) due solely to one inoperable steam supply, or (b) due to reasons other than one inoperable steam supply. The amendments are consistent with NRC-approved Technical Specifications Task Force (TSTF) Traveler, TSTF-412, Revision 3, “Provide Actions for One Steam Supply to Turbine Driven AFW/EFW [Emergency Feedwater] Pump Inoperable.”
Public Comments Received as to Proposed NSHC (Yes/No) | No.
Indiana Michigan Power Company; Donald C. Cook Nuclear Plant, Units 1 and 2; Berrien County, MI
Docket No(s) | 50-315, 50-316.
Amendment Date | January 6, 2021.
ADAMS Accession No | ML20322A428.
Amendment No(s) | 355 (Unit 1) and 335 (Unit 2).
Brief Description of Amendment(s) | The amendments revised Technical Specification (TS) 3.5.2, “ECCS [Emergency Core Cooling System]—Operating,” and TS 3.5.3, “ECCS—Shutdown.” The changes also added a new TS 3.6.15, “Containment Recirculation Sump,” to TS Section 3.6, “Containment Systems.” The changes are based on Technical Specifications Task Force (TSTF) Traveler TSTF-567, Revision 1, “Add Containment Sump TS to Address GSI [Generic Safety Issue] 191 Issues.”
Public Comments Received as to Proposed NSHC (Yes/No) | No.
NextEra Energy Seabrook, LLC; Seabrook Station, Unit No. 1; Rockingham County, NH
Docket No(s) | 50-443.
Amendment Date | December 28, 2020.
ADAMS Accession No | ML20293A157.
Amendment No(s) | 167.
Brief Description of Amendment(s) | The amendment revised the technical specification requirement for the reactor trip system instrumentation and engineered safety features actuation system (ESFAS) instrumentation to implement the allowed outage times and bypass test times justified in WCAP-14333-P-A, “Probabilistic Risk Analysis of the RPS [Reactor Protection System] and ESFAS Test Times and Completion Times,” and WCAP-15376-P-A, “Risk-Informed Assessment of the RTS [Reactor Trip System] and ESFAS Surveillance Test Intervals and Reactor Trip Breaker Test and Completion Times.” The amendment incorporated changes contained in Technical Specifications Task Force (TSTF) Traveler, TSTF-411, “Surveillance Test Interval Extensions for Components of the Reactor Protection System (WCAP-15376),” and TSTF-418, “RPS and ESFAS Test Times and Completion Times (WCAP-14333).”
Public Comments Received as to Proposed NSHC (Yes/No) | No.
Southern Nuclear Operating Company, Inc.; Joseph M Farley Nuclear Plant, Units 1 and 2; Houston County, AL
Docket No(s) | 50-348, 50-364.
Amendment Date | December 11, 2020.
ADAMS Accession No | ML20303A119.
Amendment No(s) | 232 (Unit 1) and 229 (Unit 2).
Brief Description of Amendment(s) | The amendments added a new Technical Specification (TS) 3.6.10, “Containment Sump” and modified surveillance requirements in TS 3.5.2, “ECCS [Emergency Core Cooling Systems]—Operating” and TS 3.5.3, “ECCS-Shutdown,” to adopt Technical Specifications Task Force (TSTF) Traveler TSTF-567, Revision 1, “Add Containment Sump TS to Address GSl-191 Issues.”
Public Comments Received as to Proposed NSHC (Yes/No) | No.
Southern Nuclear Operating Company, Inc.; Vogtle Electric Generating Plant, Units 3 and 4; Burke County, GA
Docket No(s) | 52-025, 52-026.
Amendment Date | December 7, 2020.
ADAMS Accession No | ML20314A006.
Amendment No(s) | 186 (Unit 3) and 184 (Unit 4).
Brief Description of Amendment(s) | The amendments authorized changes to Technical Specification (TS) 3.6.3, “Containment Isolation Valves,” and TS 3.6.9, “Vacuum Relief Valves,” to exclude the vacuum relief containment isolation valves from TS Limiting Condition for Operation 3.6.3 and addressed the containment isolation function, operability, actions, and surveillances in TS 3.6.9.
Public Comments Received as to Proposed NSHC (Yes/No) | No.
Susquehanna Nuclear, LLC and Allegheny Electric Cooperative, Inc.; Susquehanna Steam Electric Station, Unit 1; Luzerne County, PA; Susquehanna Nuclear, LLC and Allegheny Electric Cooperative, Inc.; Susquehanna Steam Electric Station, Unit 2; Luzerne County, PA
Docket No(s) | 50-387, 50-388.
Amendment Date | December 22, 2020.
ADAMS Accession No | ML20297A564.
Amendment No(s) | 277 (Unit 1) and 259 (Unit 2).
Brief Description of Amendment(s) | The amendments revised Technical Specifications 1.3, “Completion Times,” and 3.0, “Limiting Condition for Operation (LCO) Applicability” and “Surveillance Requirement (SR) Applicability.” The changes clarify and expand the use and application of the Susquehanna, Units 1 and 2, usage rules, consistent with NRC-approved Technical Specifications Task Force (TSTF) Traveler TSTF-529, Revision 4, “Clarify Use and Application Rules,” dated February 29, 2016.
Public Comments Received as to Proposed NSHC (Yes/No) | No.
Tennessee Valley Authority; Watts Bar Nuclear Plant, Units 1 and 2; Rhea County, TN
Docket No(s). | 50-390, 50-391.
Amendment Date | December 8, 2020.
ADAMS Accession No | ML20245E413.
Amendment No(s) | 139 (Unit 1) and 45 (Unit 2).
Brief Description of Amendment(s) | The amendments modified Technical Specification 3.6.15 by deleting existing Condition B and revised the acceptance criteria for annulus pressure in Surveillance Requirement 3.6.15.1.
Public Comments Received as to Proposed NSHC (Yes/No) | No.

IV. Previously Published Notice of Consideration of Issuance of Amendments to Facility Operating Licenses and Combined Licenses, Proposed No Significant Hazards Consideration Determination, and Opportunity for a Hearing

The following notice was previously published as a separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request—Repeat of Individual Federal Register Notice
Indiana Michigan Power Company; Donald C. Cook Nuclear Plant, Unit 2; Berrien County, MI
Docket No | 50-316.
Application Date | December 14, 2020.
ADAMS Accession No | ML20352A221.
Brief Description of Amendment | The proposed amendment would revise the Donald C. Cook Nuclear Plant, Unit No. 2 technical specifications to allow a one-time deferral of the requirement to inspect each steam generator from the spring of 2021 to the fall of 2022 refueling outage.
Date & Cite of Federal Register Individual Notice | December 31, 2020; 85 FR 86969.
Expiration Dates for Public Comments & Hearing Requests | February 1, 2021 (Public Comments); March 1, 2021 (Hearing Requests).

Dated: January 19, 2021.
For the Nuclear Regulatory Commission.
David J. Wrona,
Acting Deputy Director, Division of Operating Reactor Licensing, Office of Nuclear Reactor Regulation.

[FR Doc. 2021-01494 Filed 1-25-21; 8:45 am]

BILLING CODE 7590-01-P